DEPARTMENT OF ENERGY

Federal Energy Regulatory Commission

[Docket No. RP01-47-001]

Viking Gas Transmission Company; Notice of Compliance Filing

December 14, 2000.

Take notice that on December 11, 2000, Viking Gas Transmission Company (Viking) tendered for filing as part of its FERC Gas Tariff, First Revised Volume No. 1, the following tariff sheets to be effective March 1, 2001:

Original Sheet No. 33A

Original Sheet No. 33B

Third Revised Sheet No. 35

Seventh Revised Sheet No. 36

Viking states that the purpose of this filing is to comply with the Commission's Order on Filings to Establish Imbalance Netting and Trading Pursuant to Order Nos. 587-G and 587-L, issued November 9, 2000 in Docket No. RP01-47-000 et al.

Viking states that copies of the filing have been mailed to all of its jurisdictional customers and to affected state regulatory commission.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments and protests may be filed electronically via the internet in lieu of paper. See, 18 CFR 385.2001(a)(1)(iii) and the instructions on the Commission's web site at http://www.ferc.fed.us/efi/doorbell.htm.

David P. Boergers,
Secretary.

[FR Doc. 00-32344 Filed 12-19-00; 8:45 am]

BILLING CODE 6717-01-M